ENVIRONMENTAL PROTECTION AGENCY

[EPA-HQ-OA-2008-0701; FRL-9928-43-OEI]

Information Collection Request Submitted to OMB for Review and Approval; Comment Request; Focus Groups as Used by EPA for Economics Projects (Renewal)

AGENCY: Environmental Protection Agency (EPA).

ACTION: Notice.

SUMMARY: The Environmental Protection Agency has submitted an information collection request (ICR), “Focus Groups as used by EPA for Economics Projects (Renewal)” (EPA ICR No. 2205.15, OMB Control No. 2090-0028) to the Office of Management and Budget (OMB) for review and approval in accordance with the Paperwork Reduction Act (44 U.S.C. 3501 et seq.). This is a proposed extension of the ICR, which is currently approved through June 30, 2015. Public comments were previously requested via the Federal Register (80 FR 6075) on February 4, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before July 27, 2015.

ADDRESSES: Submit your comments, referencing Docket ID. EPA-HQ-OA-2008-0701, to (1) EPA online using www.regulations.gov (our preferred method), by email to oei.docket@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Nathalie Simon, National Center for Environmental Economics, Office of Policy, (1809T), Environmental Protection Agency, 1200 Pennsylvania Ave. NW., Washington, DC 20460; telephone number: 202-566-2347; fax number: 202-566-2363; email address: simon.nathalie@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: EPA is seeking renewal of a generic information collection request (ICR) for the conduct of focus groups and one-on-one interviews primarily related to survey development for economics projects. These groups are typically formed to gain insight and understanding of attitudes and perceptions held by the public surrounding a particular issue.

Focus groups and one-on-one interviews used as a qualitative research tool serve to better understand respondents' attitudes, perceptions and emotions in response to specific topics and concepts; to obtain respondent information useful for better defining variables and measures in later quantitative studies; and to further explore findings obtained from quantitative studies.

Through these focus groups, the Agency will be able to gain a more in-depth understanding of the public's attitudes, beliefs, motivations and feelings regarding specific issues and will provide invaluable information regarding the quality of draft survey instruments. Participation in the focus groups is voluntary. Each focus group will fully conform to federal regulations—specifically the Privacy Act of 1974 (5 U.S.C. 552a), the Hawkins-Stafford Amendments of 1988 (Pub. L. 100-297), and the Computer Security Act of 1987.

Form Numbers: None.

Respondents/affected entities: Individuals.

Respondent's obligation to respond: Voluntary.

Estimated number of respondents: 1,584 (total).

Frequency of response: Once.

Total estimated burden: 915 hours (per year). Burden is defined at 5 CFR 1320.03(b).

Total estimated cost: $30,302 (per year), includes $0 annualized capital or operation & maintenance costs.

Changes in the Estimates: There is a decrease of 3,163 hours in the total estimated respondent burden compared with the ICR currently approved by OMB. This decrease is based on new estimates of projected use of this ICR for focus groups for the next three years provided by the program offices at EPA.

Courtney Kerwin,
Acting Director, Collection Strategies Division.

[FR Doc. 2015-15772 Filed 6-25-15; 8:45 am]

BILLING CODE 6560-50-P